INTERNATIONAL TRADE COMMISSION

[Inv. No. 337-TA-543]

In the Matter of Certain Baseband Processor Chips and Chipsets, Transmitter and Receiver (Radio) Chips, Power Control Chips, and Products Containing Same, Including Cellular Telephone Handsets; Notice of Commission Decision To Hold a Public Hearing on the Issues of Remedy and the Public Interest; Extension of the Target Date for Completion of the Investigation

AGENCY: U.S. International Trade Commission.

ACTION: Notice.

SUMMARY: Notice is hereby given that the U.S. International Trade Commission has determined to hold a public hearing on the issues of remedy and the public interest, and has determined to extend the target date for completion of the above-captioned investigation by two (2) months to May 8, 2007.

FOR FURTHER INFORMATION CONTACT: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On June 21, 2005, the Commission instituted an investigation under section 337 of the Tariff Act of 1930, 19 U.S.C. 1337, based on a complaint filed by Broadcom Corporation of Irvine, California, alleging a violation of section 337 in the importation, sale for importation, and sale within the United States after importation of certain baseband processor chips and chipsets, transmitter and receiver (radio) chips, power control chips, and products containing same, including cellular telephone handsets by reason of infringement of certain claims of U.S. Patent Nos. 6,374,311; 6,714,983; 6,583,675; 5,682,379 (“the ‘379 patent”); and 6,359,872 (“the ‘872 patent”). 70 FR 35707 (June 21, 2005). The complainant named Qualcomm Incorporated of San Diego, California (“Qualcomm”) as the only respondent. The ‘379 patent and ‘872 patent have been terminated from this investigation.

On October 19, 2006, the presiding administrative law judge (“ALJ”) issued an Initial Determination (“ID”) on Violation of Section 337 and Recommended Determination (“RD”) on Remedy and Bond, finding a violation of section 337. The ID found a violation of section 337, and the RD recommended a limited exclusion order directed to baseband processor chips imported by Qualcomm. On December 8, 2006, the Commission issued a notice of its decision to review and upon review to modify in part the ALJ's final ID. The modification made by the Commission did not change the finding of violation. The Commission also requested the parties to the investigation, interested Government agencies, and any other interested persons to file written submissions on the issues of remedy, the public interest, and bonding.

On January 25, 2007, respondent Qualcomm moved, inter alia, for oral argument and hearing on the issues of remedy and the public interest. Complainant Broadcom opposed the motion on the ground that a hearing would delay the grant of relief in this investigation. No other party has responded to Qualcomm's motion. In view of the impact that an exclusion order covering downstream products may have on the public interest, the Commission has determined to hold a public hearing on the issues of remedy and the public interest. The Commission has also determined to extend the target date for completion of this investigation by two (2) months to May 8, 2007.

Commission Hearing: The Commission will hold the public hearing on March 21, 2007, and, if necessary, on March 22, 2007, in the Commission's main hearing room, 500 E Street, SW., Washington, DC 20436, beginning at 9:30 a.m. The hearing will be limited to the issues of remedy and the public interest. In particular, the Commission will hear presentations concerning the appropriate remedy, and the effect that such remedy would have upon the public interest.

Parties to the remedy stage of this investigation, Government agencies, public-interest groups, and interested members of the public may make oral presentations on the issues of remedy and the public interest. Oral presentations concerning the violation determinations already made in this investigation will not be permitted. Presentations need not be confined to the evidentiary record certified to the Commission by the ALJ, and may include the testimony of witnesses.

Presentations will likely be heard in the following order: complainant, respondent, intervenors, the Commission investigative attorney, Government agencies, public-interest groups, and interested members of the public. Given time constraints, Government agencies, public-interest groups, and interested members of the public may expect to be allotted no more than 10 minutes for their presentations. The time limits shall be exclusive of the time consumed by questioning by the Commission. Further details will be provided to the participants.

Notice of Appearance: Written requests to appear at the Commission hearing must be filed with the Office of the Secretary by February 28, 2007. Persons who wish to participate must provide their e-mail addresses as part of their contact information. Participants are also requested to provide a one-page synopsis of their oral presentations indicating what position they have on the issues to be addressed at the hearing. These documents will be placed in the public record.

The authority for the Commission's determination is contained in section 337 of the Tariff Act of 1930, as amended (19 U.S.C. 1337), and in section 210.50 of the Commission's Rules of Practice and Procedure (19 CFR 210.50).

Issued: February 9, 2007.
By order of the Commission.
Marilyn R. Abbott,
Secretary to the Commission.

[FR Doc. E7-2593 Filed 2-14-07; 8:45 am]

BILLING CODE 7020-02-P